DEPARTMENT OF ENERGY

Federal Energy Regulatory Commission

[Project No. 516-459]

South Carolina Electric & Gas Company; Notice of Settlement Agreement and Soliciting Comments

August 7, 2009.

Take notice that the following Settlement Agreement (Settlement) has been filed with the Commission and is available for public inspection.

a. Type of Application: Settlement Agreement.

b. Project No.: P-516-459.

c. Date filed: July 31, 2009.

d. Applicant: South Carolina Electric & Gas Company (SC Electric & Gas).

e. Name of Project: Saluda Hydroelectric Project.

f. Location: On the Saluda River in Richland, Lexington, Saluda, and Newberry counties, South Carolina. The project does not occupy any federal lands.

g. Filed Pursuant to: Rule 602 of the Commission's Rules of Practice and Procedure, 18 CFR 385.602.

h. Applicant Contact: Mr. James M. Landreth, Vice President, Fossil/Hydro Operations South Carolina Electric & Gas Company, 111 Research Drive, Columbia, South Carolina 29203; or Mr. William R. Argentieri, Manager-Civil Engineering, South Carolina Electric & Gas Company, 111 Research Drive, Columbia, South Carolina 29203, (803) 217-9162.

i. FERC Contact: Lee Emery at (202) 502-8379, or e-mail at lee.emery@ferc.gov.

j. Deadline for Filing Comments: The deadline for filing comments on the Settlement Agreement is 53 days from the date of this notice (September 29, 2009). The deadline for filing reply comments is 98 days from the date of this notice (November 13, 2009). All documents (original and eight copies) should be filed with: Kimberly D. Bose, Secretary, Federal Energy Regulatory Commission, 888 First Street, NE., Washington, DC 20426.

The Commission's Rules of Practice require all participants filing documents with the Commission to serve a copy of that document on each person on the official service list for the project. Further, if a participant files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions of the Commission's Web site (http://www.ferc.gov) under the “e-filing” link. For a simpler method of submitting text only comments, click on “Quick Comment.”

k. SC Electric & Gas filed a comprehensive settlement agreement (Agreement) on behalf of itself, American Rivers, American Whitewater, Capitol City Lake Murray Country, Catawba Indian Nation, City of Columbia Fire and Rescue, City of Columbia Parks and Recreation, Coastal Conservation League, Lake Murray Association, Lake Murray Docks, Lake Murray Homeowners Coalition, Lake Murray Power Squadron, Lake Watch, Lake Murray Chamber of Commerce, Midlands Striper Club, Riverbanks Zoo and Garden, South Carolina Department of Natural Resources, the South Carolina Wildlife Federation, and the South Carolina Department of Archives and History. The purpose of the Agreement is to resolve, as well as to provide procedures for resolving, among the signatories, issues associated with issuance of a new license for the project, including Lake Murray lake levels and downstream minimum flows in the lower Saluda River. Major issues covered in the settlement include: (1) Public safety measures associated with the release of flows to the Saluda River downstream from the Saluda dam; (2) six measures to protect of aquatic resources, including trout and sturgeon, in the lower Saluda river; (3) minimum and recreation flow releases from the Saluda dam to the lower Saluda River; (4) a low-flow operating protocol, except for the lake level that would trigger implementation of the protocol; (5) upgrading unit runners to improve water quality in the downstream reaches; (6) leasing lands for waterfowl habitat; and (7) recreational improvements at existing sites around Lake Murray and along the lower Saluda River, as well as set-aside lands for future recreation sites.

SC Electric & Gas requests that the Commission: (1) Incorporate the obligations and agreements, as illustrated in Appendix A of the Agreement, without material modification into the terms and conditions of the new license; and (2) issue a new license for a term of 50 years.

l. A copy of the Settlement Agreement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

You may register online at http://www.ferc.gov/esubscribenow.htm to be notified via e-mail of new filings and issuances related to this or other pending projects. For assistance, contact FERC Online Support.

Nathaniel J. Davis, Sr.,
Deputy Secretary.

[FR Doc. E9-19612 Filed 8-14-09; 8:45 am]

BILLING CODE 6717-01-P